DEPARTMENT OF THE TREASURY

Internal Revenue Service

Superfund Tax on Chemical Substances; Request To Modify List of Taxable Substances; Notice of Filing for Sodium Chlorite

AGENCY: Internal Revenue Service (IRS), Treasury.

ACTION: Notice of filing and request for comments.

SUMMARY: This notice of filing announces that a petition has been filed requesting that sodium chlorite be added to the list of taxable substances. This notice of filing also requests comments on the petition. This notice of filing is not a determination that the list of taxable substances is modified.

DATES: Written comments and requests for a public hearing must be received on or before March 24, 2025.

ADDRESSES: Commenters are encouraged to submit public comments or requests for a public hearing relating to this petition electronically via the Federal eRulemaking Portal at https://www.regulations.gov (indicate public docket number IRS-2025-0011 or sodium chlorite) by following the online instructions for submitting comments. Comments cannot be edited or withdrawn once submitted to the Federal eRulemaking Portal. Alternatively, comments and requests for a public hearing may be mailed to: Internal Revenue Service, Attn: CC:PA:01:PR (Notice of Filing for Sodium Chlorite), Room 5203, P.O. Box 7604, Ben Franklin Station, Washington, DC 20044. All comments received are part of the public record and subject to public disclosure. All comments received will be posted without change to www.regulations.gov, including any personal information provided. You should submit only information that you wish to make publicly available. If a public hearing is scheduled, notice of the time and place for the hearing will be published in the Federal Register.

FOR FURTHER INFORMATION CONTACT: Andrew Clark or Camille Edwards Bennehoff at (202) 317-6855 (not a toll-free number).

SUPPLEMENTARY INFORMATION:

Request To Add Substance to the List

(a) Overview. A petition was filed pursuant to Rev. Proc. 2022-26 (2022-29 I.R.B. 90), as modified by Rev. Proc. 2023-20 (2023-15 I.R.B. 636), requesting that sodium chlorite be added to the list of taxable substances under section 4672(a) of the Internal Revenue Code (List). The petition requesting the addition of sodium chlorite to the List is based on weight and contains the information detailed in paragraph (b) of this document. The information is provided for public notice and comment pursuant to section 9 of Rev. Proc. 2022-26. The publication of petition information in this notice of filing is not a determination and does not constitute Treasury Department or IRS confirmation of the accuracy of the information published.

(b) Petition Content.

(1) Substance name: Sodium chlorite.

This substance is also known as NaClO2.

(2) Petitioner: Occidental Chemical Corporation, an exporter of sodium chlorite.

(3) Proposed classification numbers:

(i) HTSUS number: 2828.90.0000.

(ii) Schedule B number: 2828.90.0000.

(iii) CAS number: 7758-19-2.

(4) Petition filing dates:

(i) Petition filing date for purposes of making a determination: November 25, 2024.

(ii) Petition filing date for purposes of section 11.02 of Rev. Proc. 2022-26, as modified by section 3 of Rev. Proc. 2023-20: July 1, 2022.

(5) Description from petition: Sodium chlorite, a solid (crystals), is used in control of biological activity in potable and non-potable water applications. Additional applications include textile bleaching and disinfection of meat processing facilities.

Sodium chlorite is made from sodium hydroxide and chlorine. Taxable chemicals constitute 75.87 percent by weight of the materials used to produce this substance.

(6) Process identified in petition as predominant method of production of substance: The predominant process for manufacture of sodium chlorite is electrolytic production of NaClO3 followed by hydrochlorination with wet acid with byproduct chlorine and hydrogen used in manufacture of acid. This substance is produced as a pure component, not a mixture, though it may be sold as an aqueous liquid.

(7) Stoichiometric material consumption equation, based on process identified as predominant method of production:

2 Cl2 (chlorine) + 4 NaOH (sodium hydroxide) + 3 O2 (oxygen) → 4 NaClO2 (sodium chlorite) + 2 H2O (water)

(8) Tax rate calculated by Petitioner, based on Petitioner's conversion factors for taxable chemicals used in production of substance:

(i) Tax rate: $2.35 per ton.

(ii) Conversion factors: 0.39 for chlorine, 0.44 for sodium hydroxide.

(9) Public docket number: IRS-2025-0011.

Michael Beker,
Senior Counsel (Energy, Credits, and Excise Tax), IRS Office of Chief Counsel.

[FR Doc. 2025-01371 Filed 1-17-25; 8:45 am]

BILLING CODE P